DEPARTMENT OF THE INTERIOR

National Park Service

[NPS-WASO-NAGPRA-NPS0036466; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is a cultural affiliation between the human remains and associated funerary objects and Indian Tribes or Native Hawaiian organizations in this notice. The human remains and associated funerary objects were removed from Clark, Garland, Lafayette, Miller, Ouachita, and Union Counties, AR.

DATES: Repatriation of the human remains and associated funerary objects in this notice may occur on or after September 27, 2023.

ADDRESSES: Laura Bryant, Gilcrease Museum, 800 S Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum. The National Park Service is not responsible for the determinations in this notice. Additional information on the determinations in this notice, including the results of consultation, can be found in the inventory or related records held by the Gilcrease Museum.

Description

Human remains representing, at minimum, one individual were removed from Clark County, AR. In December of 1938, avocational archeologists Harry J. Lemley and S.D. Dickinson excavated these human remains at the Kirkham Place (3CL29). The 27 associated funerary objects are 20 lots consisting of sherds; one lot consisting of faunal remains, including antlers; two lots consisting of faunal bone tools; two lots consisting of lithic tools, including projectile points, scrapers, flakes, and knives; one lot consisting of pipe fragments; and one lot consisting of celts.

Human remains representing, at minimum, one individual were removed from Garland County, AR. In 1929, Reverend O.N. Wehunt removed these human remains from the Jim Williamson Place, and at an unknown date, Harry J. Lemley acquired them from Wehunt. The one associated funerary object is a ceramic vessel.

Human remains representing, at minimum, three individuals were removed from Lafayette County, AR. In 1900, H.A. McCants removed these human remains from the Joe Russell Place (3LA91, 3LA245, 3LA246), and at an unknown date, Harry J. Lemley acquired them. The one associated funerary object is a ceramic vessel.

Human remains representing, at minimum, one individual were removed from Lafayette County, AR. Sometime in the early 20th century, Gamel Smith removed these human remains from Lester's Brother's Place (3LA38, 3LA48), and at an unknown date, Harry J. Lemley acquired them. The one associated funerary object is a ceramic vessel.

Human remains representing, at minimum, two individuals were removed from Lafayette County, AR. During the early 20th century, various individuals, including Dan Jenkins, removed items from the Battle Place/William Handy Place (3LA0001), and at different times during the early-to-mid-20th century, Harry J. Lemley acquired them. The five associated funerary objects are one lot consisting of sherds, one lot consisting of faunal remains, two lots consisting of lithic tools, and one ceramic vessel.

Human remains representing, at minimum, one individual were removed from Miller County, AR. In 1935, Harry J. Lemley removed these human remains from the Crenshaw Place (3MI6). No associated funerary objects are present.

In 1955, the Gilcrease Foundation purchased the human remains and associated funerary objects listed above from Harry J. Lemley. In 1963-1964, the Foundation transferred this collection to the City of Tulsa.

Human remains representing, at minimum, one individual were removed from Miller County, AR. In 1967, Gregory Perino, a curator at Gilcrease Museum at the time, removed these human remains from the Haley Place (3MI11). The three associated funerary objects are two ceramic vessels and one ceramic pipe bowl.

The human remains and associated funerary objects listed below were part of Frank and Norma Soday's collection. In 1982, the Thomas Gilcrease Museum Association purchased this collection and gifted it to the Gilcrease Museum.

Human remains representing, at minimum, one individual were removed from Ouachita County, AR. In 1950, Frank Soday, an avocational archeologist, removed these human remains from Carroll Givens Mound (3OU27, Soday site 380). No associated funerary objects are present.

Human remains representing, at minimum, one individual were removed from Ouachita County, AR. Sometime between 1948 and 1950, Frank Soday removed these human remains from Hindman Mound (Soday site 306). The two associated funerary objects are two lots consisting of faunal remains.

Human remains representing, at minimum, three individuals were removed from Ouachita County, AR. In 1949, Frank Soday removed these human remains from Bacon Mound #3 (3OU131, Soday site 360). The four associated funerary objects are one lot consisting of lithic tools, one lot consisting of pottery sherds, one lot consisting of faunal remains, and one lot consisting of daub.

Human remains representing, at minimum, seven individuals were removed from Ouachita County, AR. In 1950, Frank Soday removed these human remains from Freo Island (Soday site 371). The eight associated funerary objects are three lots consisting of faunal remains, one lot consisting of pottery sherds and daub, one lot consisting of shell beads and lithics, one ceramic vessel, one lot consisting of lithic tools, and one lot consisting of antlers.

Human remains representing, at minimum, 10 individuals were removed from Ouachita County, AR. In 1951, Frank Soday removed these human remains from Matkins Bee Ranch/Stone Trestle Mound (3OU005, Soday sites 369 and 378). The one associated funerary object is one lot consisting of faunal remains.

Human remains representing, at minimum, one individual were removed from Ouachita County, AR. In 1948, Frank Soday removed these human remains from Paw Paw Mound (3OU22, Soday site 316). The two associated funerary objects are one lot consisting of pottery sherds and one lot consisting of faunal remains.

Human remains representing, at minimum, one individual were removed from Ouachita County, AR. In 1950, Frank Soday removed these human remains from the Ritchie Place (Soday site 367). No associated funerary objects are present.

Human remains representing, at minimum, one individual were removed from Union County, AR. In 1947, Frank Soday removed these human remains from Harper Mound (3UN41, Soday site 333). The three associated funerary objects are one lot consisting of faunal remains, one lot consisting of pottery sherds, and one lot consisting of lithic tools.

Human remains representing, at minimum, 18 individuals were removed from Union County, AR. Sometime between 1948 and 1950, Frank Soday removed these human remains from the J. M. Nelson Farm (3UN8, Soday site 325). The 39 associated funerary objects are nine lots consisting of faunal remains, antlers, and bone tools; one lot consisting of burned faunal remains; 17 lots consisting of pottery sherds; four lots consisting of lithic tools; five ceramic vessels; and three lots consisting of shells.

Human remains representing, at minimum, two individuals were removed from Union County, AR. In 1955, Frank Soday removed these human remains from Lapile Mound Village (Soday site 551). The four associated funerary objects are one lot consisting of faunal bone tools, one lot consisting of lithic flakes, one lot consisting of wood and burnt faunal remains, and one lot consisting of pottery sherds.

Human remains representing, at minimum, one individual were removed from Union County, AR. In 1949, Frank Soday removed these human remains from Watt Mound (3UN18 or 3UN22, Soday site 342). The one associated funerary object is one lot consisting of faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, oral traditional, and museum records.

Determinations

Pursuant to NAGPRA and its implementing regulations, and after consultation with the appropriate Indian Tribes and Native Hawaiian organizations, the Gilcrease Museum has determined that:

• The human remains described in this notice represent the physical remains of 56 individuals of Native American ancestry.

• The 102 objects described in this notice are reasonably believed to have been placed with or near individual human remains at the time of death or later as part of the death rite or ceremony.

• There is a relationship of shared group identity that can be reasonably traced between the human remains and associated funerary objects described in this notice and the Caddo Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 27, 2023. If competing requests for repatriation are received, the Gilcrease Museum must determine the most appropriate requestor prior to repatriation. Requests for joint repatriation of the human remains and associated funerary objects are considered a single request and not competing requests. The Gilcrease Museum is responsible for sending a copy of this notice to the Indian Tribe identified in this notice.

Authority: Native American Graves Protection and Repatriation Act, 25 U.S.C. 3003, and the implementing regulations, 43 CFR 10.9, 10.10, and 10.14.

Dated: August 18, 2023.
Melanie O'Brien,
Manager, National NAGPRA Program.

[FR Doc. 2023-18503 Filed 8-25-23; 8:45 am]

BILLING CODE 4312-52-P